DEPARTMENT OF THE INTERIOR

Bureau of Land Management

[LLNVE02000.L19900000.EX0000; MO: 4500011512; 10-08807; TAS: 14X1109]

Notice of Availability of the Final Environmental Impact Statement for the Newmont Mining Corporation Emigrant Project Plan of Operation, Nevada

AGENCY: Bureau of Land Management, Interior.

ACTION: Notice of availability.

SUMMARY: In accordance with the National Environmental Policy Act (NEPA) of 1969, as amended, and the Federal Land Policy and Management Act of 1976, as amended, the Bureau of Land Management (BLM) has prepared a Final Environmental Impact Statement (EIS) for the Newmont Mining Corporation Emigrant Project Plan of Operations and by this notice is announcing its availability.

DATES: The BLM will not issue a final decision on the proposal for a minimum of 30 days from the date that the Environmental Protection Agency publishes this notice in the Federal Register.

ADDRESSES: Copies of the EIS for the Newmont Mining Corporation Emigrant Project Plan of Operation are available for public inspection at the BLM Tuscarora Field Office, 3900 East Idaho Street, Elko, Nevada. Interested persons may also review the Final EIS at the following Web site: http://www.blm.gov/nv/st/en/fo/elko_field_office.html.

FOR FURTHER INFORMATION CONTACT: Tom Schmidt, BLM Project Manager (775) 753-0200; by mail at Bureau of Land Management, Tuscarora Field Office, Attn: Emigrant Mine Project Manager, 3900 East Idaho Street, Elko, Nevada 89801; or by e-mail tom_schmidt@blm.gov.

SUPPLEMENTARY INFORMATION: The Newmont Mining Corporation submitted a proposed Plan of Operations to the BLM on February 4, 2004 to open the Emigrant Mine about 10 miles south of Carlin, Nevada. The proposed Emigrant Mine would include developing and operating an open pit mine, constructing a waste rock disposal facility, storing waste rock in mined out areas of the pit, developing an oxide heap leach pad; constructing ancillary facilities, rerouting intermittent stream flows in the pit area, and conducting concurrent reclamation. Proposed mining operations would last for approximately 10 years with an additional 4 years of closure operations. Approximately 1,170 acres of public land and 248 acres of private land would be disturbed.

The issues analyzed in the Final EIS include the potential impacts to wildlife and cultural resources, the potential for waste rock, heap leach, and pit walls to produce acid rock drainage and/or heavy metals, and the proposed diversion of a drainage. Indirect and cumulative impacts are addressed for air quality, water, soil, vegetation, wildlife, fisheries and aquatic resources, threatened, endangered, candidate, and sensitive species recreation, livestock grazing, social and economic values, visual resources, cultural and Native American religious site concerns. Additional resource analysis includes geology and minerals, paleontology, lands and realty, wilderness, weeds and environmental justice.

The analysis in the Final EIS reflects modifications to the proposed plan of operations as a result of new information. As a result of the NEPA review process, an Adaptive Management Plan was developed to monitor performance of the operations plan and prevent impacts. The BLM originally published a Notice of Availability of the Draft EIS in the Federal Register on March 25, 2005 (70 FR 15346). In response to substantive comments on the 2005 Draft EIS, the BLM issued a revised Draft EIS in 2008 that replaced the 2005 Draft EIS. A Notice of Availability for the 2008 Draft EIS was published in the Federal Register on November 19, 2008 (73 FR 69675). The 2008 Draft EIS incorporated revisions made in response to substantive comments received on the 2005 Draft EIS. The 2008 Draft EIS analyzed the proposed action and no action alternatives. Other alternatives considered and reasons why they were eliminated from detailed analysis are discussed in the Final EIS. Measures to avoid or minimize environmental impacts and to assure the proposed action does not result in undue or unnecessary degradation of public lands are also included. The BLM received 15 comments from the public. These comments included concerns about what methods would be used to classify waste rock as potentially acid generating and non-potentially acid generating. In response to these comments, the Final EIS includes an Adaptive Management Plan in the monitoring program to continually monitor and evaluate the performance of the waste rock management plan proposed for this project and respond to any unforeseen surface and/or groundwater impacts.

Comments on the 2008 Draft EIS received from the public and from an internal BLM review were considered and incorporated as appropriate into the proposed plan of operations and the Final EIS. Public comments resulted in the addition of clarifying text and the inclusion of the Adaptive Management Plan.

Authority: 40 CFR 1506.6 and 1506.10.

Kenneth E. Miller,
Manager, Elko District.

[FR Doc. 2010-31646 Filed 12-16-10; 8:45 am]

BILLING CODE 4310-HC-P